ENVIRONMENTAL PROTECTION AGENCY

[FRL-7260-8]

Agency Information Collection Activities: Submission for OMB Review; NSPS for Sulfuric Acid Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Sulfuric Acid Plants (40 CFR part 60, subpart H); OMB Control Number 2060-0041; expiration date August 31, 2002. The ICR describes the nature of the information collection and its expected burden and cost; where appropriate, it includes the actual data collection instrument.

DATES: Comments must be submitted on or before September 16, 2002.

ADDRESSES: Send comments, referencing EPA ICR No. 1057.09 and OMB Control No. 2060-0041, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: Susan Auby at EPA by phone at (202) 566-1672, by e-mail at Auby.Susan@epamail.epa.gov or download off the Internet at http://www.epa.gov/icr and refer to EPA ICR Number 1057.09. For technical questions about the ICR contact Marcia Mia at EPA by phone at (202-564-7042), by e-mail at Mia.Marcia@epa.gov.

SUPPLEMENTARY INFORMATION: Title: NSPS for Sulfuric Acid Plants (40 CFR part 60, subpart H); OMB Control No. 2060-0041; EPA ICR Number 1057.09; expiration date August 31, 2002. This is a request for extension of a currently approved collection.

Abstract: This ICR contains recordkeeping and reporting requirements that are mandatory for compliance with 40 CFR 60.80, subpart H, New Source Performance Standards for Sulfuric Acid Plants. This information notifies the Agency when a source becomes subject to the regulations, and informs the Agency that the source is in compliance when it begins operation. The Agency is informed of the sources' compliance status by semiannual reports. The calibration and maintenance requirements aid in a source remaining in compliance.

In the Administrator's judgement, sulfuric dioxide and acid mist emissions from the manufacture of sulfuric acid cause or contribute to air pollution that may reasonably be anticipated to endanger public health or welfare. Therefore, New Source Performance Standards have been promulgated for this source category as required under section 111 of the Clean Air Act.

The control of sulfur dioxide (SO2) and acid mist requires not only the installation of properly designed equipment, but also the proper operation and maintenance of that equipment. Sulfur dioxide and acid mist emissions from sulfuric acid plants result from the burning of sulfur or sulfur-bearing feedstocks to form SO2, catalytic oxidation of SO2 to sulfur trioxide, and absorption of SO2 in a strong acid stream. These standards rely on the capture of SO2 and acid mist by venting to a control device.

Owners or operators of sulfuric acid plants subject to NSPS are required to make the following one-time-only reports: Notification of the date of construction or reconstruction; notification of the anticipated and actual dates of startup; notification of any physical or operational change to an existing facility which may increase the regulated pollutant emission rate; notification of demonstration of the continuous emissions monitoring system (CEMS); notification of the date of the initial performance test; and the results of the initial performance test. After the initial recordkeeping and reporting requirements, semiannual reports are required if there has been an exceedance of control device operating parameters.

Owners or operators are also required to maintain records of the occurrence and duration of any startup, shutdown, or malfunction in the operation of an affected facility, or any period during which the monitoring system is inoperative. These notifications, reports and records are required, in general, of all sources subject to NSPS. No new facilities are estimated to become subject to the standard during the next three years.

An agency may not conduct or sponsor, and a person is not required to respond to, a collection of information unless it displays a currently valid OMB Control Number. The OMB Control Numbers for EPA's regulations are listed in 40 CFR part 9 and 48 CFR chapter 15. The Federal Register document required under 5 CFR 1320.8(d), soliciting comments on this collection of information was published on October 29, 2001 (66 FR 54514); no comments were received.

Burden Statement: The annual public reporting and recordkeeping burden for this collection of information is estimated to be 220 hours per facility. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Sulfuric Acid Plants.

Estimated Number of Respondents: 106.

Frequency of Response: Semiannually and on-occasion.

Estimated Total Annual Hour Burden: 23,320 hours.

Estimated Total Annualized Capital, O&M Cost Burden: $477,000.

Send comments on the Agency's need for this information, the accuracy of the provided burden estimates, and any suggested methods for minimizing respondent burden, including through the use of automated collection techniques to the following addresses. Please refer to EPA ICR Number 1057.09 and OMB Control Number 2060-0041 in any correspondence.

Dated: August 2, 2002.
Oscar Morales,
Director, Collection Strategies Division.

[FR Doc. 02-20870 Filed 8-15-02; 8:45 am]

BILLING CODE 6560-50-P